DEPARTMENT OF COMMERCE

National Institute of Standards and Technology

Proposed Voluntary Product Standard 20-15, American Softwood Lumber Standard

AGENCY: National Institute of Standards and Technology (NIST), Commerce.

ACTION: Notice and request for comments.

SUMMARY: The National Institute of Standards and Technology (NIST) is soliciting public comment on revisions to Voluntary Product Standard (PS) 20-15, American Softwood Lumber Standard. This standard, prepared by the American Lumber Standard Committee, serves the procurement and regulatory needs of numerous federal, state, and local government agencies by providing for uniform, industry-wide grade-marking and inspection requirements for softwood lumber.

The implementation of the standard also allows for uniform labeling and auditing of treated wood and wood packaging materials. As part of a five-year review process, NIST is seeking public comment and invites interested parties to review the revised standard and submit comments.

DATES: Written comments regarding the proposed revision should be submitted no later than 5:00 p.m. Eastern time on November 1, 2019. Written comments in response to this notice should be submitted according to the instructions in the ADDRESSES and SUPPLEMENTARY INFORMATION sections below. Submissions received after that date may not be considered.

ADDRESSES: An electronic copy (in PDF) of the current standard and proposed revisions can be obtained at the following website https://www.nist.gov/standardsgov/voluntary-product-standards-program. Written comments on the standard should be submitted to David F. Alderman, Standards Services Division, NIST, 100 Bureau Drive, Stop 2100, Gaithersburg, MD 20899-2100; fax (301) 975-4715. Electronic comments may be submitted via email to david.alderman@nist.gov.

FOR FURTHER INFORMATION CONTACT: David F. Alderman, Standards Services Division, National Institute of Standards and Technology, telephone (301) 975-4019; fax: (301) 975-4715, email: david.alderman@nist.gov.

SUPPLEMENTARY INFORMATION: The proposed revision of the standard has been developed and is being processed in accordance with Department of Commerce provisions in 15 CFR part 10, Procedures for the Development of Voluntary Product Standards, as amended (published June 20, 1986). Under 15 CFR, part 10, the American Lumber Standard Committee (Committee) acts as the Standing Committee for PS 20-15. The Committee is responsible for maintaining, revising, and interpreting the standard and is comprised of producers, distributors, users, and others with an interest in the standard.

Voluntary Product Standard (PS) 20-15 establishes standard sizes and requirements for developing and coordinating the lumber grades of the various species of lumber, the assignment of design values, and the preparation of grading rules applicable to each species. Its provisions include implementation of the standard through an accreditation and certification program; establishment of principal classifications and lumber sizes for yard, structural, and factory/shop use; classification, measurement, grading, and grade-marking of lumber; definitions of terms and procedures to provide a basis for the use of uniform methods in the grading inspection, measurement, and description of softwood lumber; commercial names of the principal softwood species; definitions of terms used in describing standard grades of lumber; and commonly used industry abbreviations. The standard also includes the organization and functions of the Committee, the Board of Review, and the National Grading Rule Committee.

NIST invites public comments on the current standard, PS 20-15, which is available at https://www.nist.gov/standardsgov/voluntary-product-standards-program.

Attachments will be accepted in plain text, Microsoft Word, or Adobe PDF formats. Comments containing references, studies, research, and other empirical data that are not widely published should include copies or electronic links of the referenced materials.

All submissions, including attachments and other supporting materials, will become part of the public record and subject to public disclosure. NIST reserves the right to publish comments publicly, unedited and in their entirety. Sensitive personal information, such as account numbers or Social Security numbers, or names of other individuals, should not be included. Submissions will not be edited to remove any identifying or contact information. Do not submit confidential business information, or otherwise sensitive or protected information. Comments that contain profanity, vulgarity, threats, or other inappropriate language or content will not be considered.

All public comments will be reviewed and considered. Written comments should be submitted in accordance with the DATES and ADDRESSES sections of this notice. The American Lumber Standard Committee and NIST will consider all responsive comments received and may revise the standard, as appropriate.

Authority: 15 U.S.C. 272.

Kevin A. Kimball,
Chief of Staff.

[FR Doc. 2019-21343 Filed 10-1-19; 8:45 am]

BILLING CODE 3510-13-P